DEPARTMENT OF ENERGY

Federal Energy Regulatory Commission

[Docket No. ER01-1091-001, et al.]

Metropolitan Edison Company, et al.; Electric Rate and Corporate Regulation Filings

March 6, 2001.

Take notice that the following filings have been made with the Commission:

1. Metropolitan Edison Company

[Docket No. ER01-1091-001]

Take notice that on March 1, 2001, Metropolitan Edison Company (doing business as and referred to as GPU Energy) submitted for filing an amendment to its January 30, 2001 filing in this proceeding.

GPU Energy states that a copy of this filing has been served upon Calpine Construction Finance Company L.P., PJM Interconnection, L.L.C., and regulators in the Commonwealth of Pennsylvania.

Comment date: March 22, 2001, in accordance with Standard Paragraph E at the end of this notice.

2. Commonwealth Edison Company

[Docket No. ER01-1356-000]

Take notice that on March 1, 2001, Commonwealth Edison Company (ComEd) submitted for filing a revised unexecuted Service Agreement for Network Integration Transmission Service (Service Agreement) between ComEd and the Illinois Municipal Electric Agency (IMEA) and a revised unexecuted Network Operating Agreement (Operating Agreement) between ComEd and the IMEA. These agreements modify and supersede a Network Integration Transmission Service Agreement and Network Operating Agreement currently on file with the Commission.

ComEd requests an effective date of February 1, 2001 for the Agreements and accordingly, seeks waiver of the Commission's notice requirements.

Copies of the filing were served on IMEA and the Illinois Commerce Commission.

Comment date: March 22, 2001, in accordance with Standard Paragraph E at the end of this notice.

3. New England Power Pool

[Docket No. ER01-1357-000]

Take notice that on March 1, 2001, the New England Power Pool (NEPOOL) Participants Committee filed for acceptance materials (1) to permit NEPOOL to expand its membership to include ANP Marketing Company and PPL Wallingford Energy LLC (together, the Applicants); and (2) to terminate the memberships of Champion International Corporation (Champion) and Coastal Merchant Energy, LP (Coastal).

The Participants Committee requests an effective date of March 1, 2001 for commencement of participation in NEPOOL by Applicants and February 1, 2001 for the termination of Champion and Coastal.

The Participants Committee states that copies of these materials were sent to the New England state governors and regulatory commissions and the Participants in NEPOOL.

Comment date: March 22, 2001, in accordance with Standard Paragraph E at the end of this notice.

4. Public Service Company of New Mexico

[Docket No. ER01-1358-000]

Take notice that on March 1, 2001, Public Service Company of New Mexico (PNM) submitted for filing four agreements with Tri-State Generation and Transmission Association, Inc. (Tri-State). The agreements include two Service Agreements under the terms of PNM's Open Access Transmission Tariff (one for Network Integration Transmission Service, and an associated Network Operating Agreement) and two related bi-lateral agreements (a Bus License Agreement, and a Maintenance and Capital Replacement Agreement).

All four agreements are dated February 28, 2001 and are to become effective on March 1, 2001. PNM's filing is available for public inspection at its offices in Albuquerque, New Mexico.

Copies of the filing have been sent to Tri-State and to the New Mexico Public Regulation Commission.

Comment date: March 22, 2001, in accordance with Standard Paragraph E at the end of this notice.

5. American Transmission Systems, Incorporation

[Docket No. ER01-1360-000]

Take notice that on March 1, 2001, American Systems, Incorporated filed an Agreement for construction of a new 138 kV delivery point with The Borough of Zelienople. The Agreement provides for the replacement of Zelienople's existing 4.16 kV distribution delivery point with a new 138 kV transmission delivery point. This filing is made pursuant to Section 205 of the Federal Power Act.

Copies of this filing have been served on Zelienople and the Pennsylvania Public Utility Commission

Comment date: March 22, 2001, in accordance with Standard Paragraph E at the end of this notice.

6. New York State Electric & Gas Corporation

[Docket No. ER01-1361-000]

Take notice that on March 1, 2001 New York State Electric & Gas Corporation (NYSEG) tendered for filing pursuant to Section 205 of the Federal Power Act and Section 35 of the Federal Energy Regulatory Commission's (FERC or Commission) Regulations, a February 27, 2001 Facilities Agreement with the Village of Bath (Bath). This Agreement provides for NYSEG to install a tap of its transmission system in order to provide increased reliability to Bath. Additionally, Bath will pay monthly installments on NYSEG's annual charges for routine operation, maintenance, general expenses, and taxes (O&M).

This rate filing is made pursuant to Paragraph 2.3 of the Facilities Agreement. The annual charges for routine operation and maintenance and general expenses, as well as revenue and property taxes are based on data taken from NYSEG's Annual Report to the Federal Energy Regulatory Commission (FERC Form 1) for the twelve month period ending December 31, 1999. The facilities charge is levied on the cost of the tap facility constructed and owned by NYSEG to connect its 34.5 kV transmission lines to Bath's transmission system.

NYSEG requests an effective date of April 30, 2001.

Copies of the filing were served upon the Municipal Board of the Village of Bath and the Public Service Commission of the State of New York.

Comment date: March 22, 2001, in accordance with Standard Paragraph E at the end of this notice.

7. Maine Electric Power Company

[Docket Nos.ER01-1362-000]

Take notice that on March 1, 2001, Maine Electric Power Company (MEPCO) tendered for filing with the Federal Energy Regulatory Commission (Commission) an amendment extending until July 1, 2005, the term of the Chester SVC Partnership Basic Operating Agreement (Agreement).

Comment date: March 22, 2001, in accordance with Standard Paragraph E at the end of this notice.

8. Coral Energy Management, LLC

[Docket No. ER01-1363-000]

Take notice that on March 1, 2001, Coral Energy Management, LLC (Seller) petitioned the Commission for an order: (1) accepting Seller's proposed FERC Electric Tariff (Market-Based Rate Tariff); (2) granting waiver of certain requirements under Subparts B and C of Part 35 of the regulations, and (3) granting the blanket approvals normally accorded sellers permitted to sell at market-based rates.

Comment date: March 22, 2001, in accordance with Standard Paragraph E at the end of this notice.

9. Puget Sound Energy, Inc.

[Docket No. ER01-1364-000]

Take notice that on March 1, 2001, Puget Sound Energy, Inc. (PSE), tendered for filing a Service Agreement under PSE's Electric Tariff, First Revised Volume No. 8 with California Energy Resource Scheduling (CERS).

A copy of the filing was served upon CERS.

Comment date: March 22, 2001, in accordance with Standard Paragraph E at the end of this notice.

10. Northern Indiana Public Service Company

[Docket No. ER01-1365-000]

Take notice that on March 1, 2001, Northern Indiana Public Service Company tendered for filing an executed Standard Transmission Service Agreement for Non-Firm Point-to-Point Transmission Service between Northern Indiana Public Service Company and Powerex Corporation (Powerex).

Under the Transmission Service Agreement, Northern Indiana Public Service Company will provide Point-to-Point Transmission Service to Powerex pursuant to the Transmission Service Tariff filed by Northern Indiana Public Service Company in Docket No. OA96-47-000 and allowed to become effective by the Commission. Northern Indiana Public Service Company has requested that the Service Agreement be allowed to become effective as of March 1, 2001.

Copies of this filing have been sent to Powerex Corporation, the Indiana Utility Regulatory Commission, and the Indiana Office of Utility Consumer Counselor.

Comment date: March 22, 2001, in accordance with Standard Paragraph E at the end of this notice.

11. Northern Indiana Public Service Company

[Docket No. ER01-1366-000]

Take notice that on March 1, 2001, Northern Indiana Public Service Company tendered for filing an executed Standard Transmission Service Agreement for Non-Firm Point-to-Point Transmission Service between Northern Indiana Public Service Company and Northern Indiana Public Service Company Energy Services (Energy Services).

Under the Transmission Service Agreement, Northern Indiana Public Service Company will provide Point-to-Point Transmission Service to Energy Services pursuant to the Transmission Service Tariff filed by Northern Indiana Public Service Company in Docket No. OA96-47-000 and allowed to become effective by the Commission.

Northern Indiana Public Service Company has requested that the Service Agreement be allowed to become effective as of March 1, 2001.

Copies of this filing have been sent to Northern Indiana Public Service Company Energy Services, the Indiana Utility Regulatory Commission, and the Indiana Office of Utility Consumer Counselor.

Comment date: March 22, 2001, in accordance with Standard Paragraph E at the end of this notice.

12. Entergy Services, Inc.

[Docket No. ER01-1367-000]

Take notice that on March 1, 2001, Entergy Services, Inc., on behalf of Entergy Arkansas, Inc., tendered for filing a modified and redesignated Interconnection and Operating Agreement with Union Power Partners, L.P. (UPP), and an updated Generator Imbalance Agreement with UPP. The modified Interconnection and Operating Agreement reflects UPP's selection of specific Optional System Upgrades for the interconnection of its generating facility to Entergy Arkansas' transmission system.

Comment date: March 22, 2001, in accordance with Standard Paragraph E at the end of this notice.

13. Public Service Company of New Mexico

[Docket No. ER01-1368-000]

Take notice that on March 1, 2001, Public Service Company of New Mexico (PNM) submitted for filing an executed service agreement for Control Area Service with Tri-State Generation and Transmission Association, Inc. (Tri-State) under the terms of PNM's Open Access Transmission Tariff.

The agreement is dated February 28, 2001, and is to become effective February 1, 2001. PNM's filing is available for public inspection at its offices in Albuquerque, New Mexico.

Copies of the filing have been sent to Tri-State and to the New Mexico Public Regulation Commission.

Comment date: March 22, 2001, in accordance with Standard Paragraph E at the end of this notice.

14. Coyote Springs 2, LLC

[Docket No. ER01-1369-000]

Take notice that on March 1, 2001, Coyote Springs 2, LLC tendered for filing a Notice of Cancellation of Electric Rate Schedule FERC No. 1 to become effective March 2, 2001.

Comment date: March 22, 2001, in accordance with Standard Paragraph E at the end of this notice.

15. Entergy Services, Inc.

[Docket No. ER01-1376-000]

Take notice that on February 28, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Axia Energy, LP.

Comment date: March 21, 2001, in accordance with Standard Paragraph E at the end of this notice.

16. Old Dominion Electric Cooperative

[Docket No. ES01-22-000]

Take notice that on March 1, 2001, Old Dominion Electric Cooperative submitted an application pursuant to section 204 of the Federal Power Act requesting authorization to issue short-term debt, from time to time over a two-year period commencing on May 1, 2001, with no more than $501 million outstanding at any one time.

Comment date: March 23, 2001, in accordance with Standard Paragraph E at the end of this notice.

17. ISO New England Inc.

[Docket No. ES01-24-000]

Take notice that on March 2, 2001, ISO New England Inc. (ISO-NE) submitted an application pursuant to section 204 of the Federal Power Act requesting authorization to issue long-term promissory notes under a term credit facility with no more than $43 million outstanding at any one time.

ISO-NE also requests a waiver from the Commission's competitive bidding and negotiated placement requirements at 18 CFR 34.2.

18. ISO New England Inc.

[Docket No. ES01-25-000]

Take notice that on March 2, 2001, ISO New England Inc. (ISO-NE) submitted an application pursuant to section 204 of the Federal Power Act requesting authorization to issue long-term promissory notes under a revolving line of credit with no more than $15 million outstanding at any one time.

ISO-NE also requests a waiver from the Commission's competitive bidding and negotiated placement requirements at 18 CFR 34.2.

Comment date: March 23, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-6126 Filed 3-12-01; 8:45 am]

BILLING CODE 6717-01-P